FEDERAL COMMUNICATIONS COMMISSION

[DA 15-679]

Media Bureau Announces Incentive Auction Eligible Facilities and Deadline for Filing Pre-Auction Technical Certification Form

AGENCY: Federal Communications Commission.

ACTION: Notice.

SUMMARY: This document announces each full power and Class A station facility eligible for protection in the repacking process and for relinquishment in the reverse auction (i.e., “eligible facility”), as well as the date by which a licensee with a eligible facility must file a Pre-Auction Technical Certification Form (FCC Form 2100, Schedule 381) (approved under OMB control under 3060-1206). An Appendix is attached to the Public Notice listing each eligible facility. The Public Notice also establishes a process for licensees to file a Petition for Eligible Entity Status in order to request that a facility not listed in the Appendix attached to the Public Notice be treated as an eligible facility.

DATES: The deadline for filing a Pre-Auction Technical Certification Form (FCC Form 2100, Schedule 381) is July 9, 2015. The deadline for filing a Petition for Eligible Entity Status is July 9, 2015. If granted, the Bureau will notify the petitioner of the date by which it must file its Pre-Auction Technical Certification Form as part of its decision. Furthermore, if the Commission grants a petition for reconsideration of the Incentive Auction R&O and in doing so extends discretionary protection to a different facility, or a facility that is not currently listed in the Appendix attached to the Public Notice, the licensee must file a Pre-Auction Technical Certification Form for each eligible facility no later than seven (7) days after release of the Commission's decision or by July 9, 2015, whichever is later.

FOR FURTHER INFORMATION CONTACT: Kevin Harding, Hossein Hashemzadeh, or Evan Morris, Video Division, Media Bureau, Federal Communications Commission, (202) 418-1600.

SUPPLEMENTARY INFORMATION: The Media Bureau (Bureau) announces each station facility eligible for protection in the repacking process and for relinquishment in the reverse auction (i.e., eligible facility). Each eligible facility is listed in an Appendix attached to the Public Notice, which includes each eligible facility's call sign, facility identification number, community of license (city and state), license file number, channel number, type of service, and name of the licensee. The Appendix is available at http://transition.fcc.gov/Daily_Releases/Daily_Business/2015/db0609/DA-15-679A2.pdf. Additionally, the Bureau announces that any licensee with a station listed in the Appendix must file an FCC Form 2100, Schedule 381 (Pre-Auction Technical Certification Form or Form), through which it will verify and certify to the accuracy of the authorization and underlying Database Technical Information for each eligible facility by July 9, 2015. ``Database Technical Information” means all underlying technical data that sets forth the operational parameters of the facility, including but not limited to the technical information that may be found in the Commission's Consolidated Database System (as well as the successor Licensing Management System) and Antenna Registration System. Accordingly, when a licensee certifies on the Pre-Auction Technical Certification Form to the accuracy of underlying Database Technical Information for an eligible facility, it must review all technical information on file with the Commission related to that eligible facility. When making its certification a licensee should not limit its review solely to the information provided for each eligible facility in the Appendix.

In the Incentive Auction R&O, the Federal Communications Commission (Commission) adopted rules and procedures for conducting the broadcast television incentive auction, including rules for determining which full power and Class A television station facilities would be eligible for protection in the repacking process and participation in the reverse auction. See Expanding the Economic and Innovation Opportunities of Spectrum Through Incentive Auctions, GN Docket No. 12-268, Report and Order, 29 FCC Rcd 6567 (2014) (Incentive Auction R&O). The Commission also instructed the Bureau to issue a Public Notice specifying the deadline by which all full power and Class A licensees subject to either discretionary or mandatory protection, with limited exception, must either be licensed or have an application for a license to cover the construction permit on file (FCC Form 2100, Schedules B or F/FCC Forms 302 or 302-CA) in order to qualify as an eligible facility. Incentive Auction R&O, 29 FCC Rcd 6651, n.615 Pursuant to that authority, the Bureau designated May 29, 2015 as the Pre-Auction Licensing Deadline. Media Bureau Designates May 29, 2015 as Pre-Auction Licensing Deadline, Public Notice, 30 FCC Rcd 393 (2015).

While the Appendix attached to the Public Notice is intended to represent a complete list of all Class A and full power station facilities eligible for protection in the repacking process and relinquishment in the reverse auction, if a licensee believes that the Appendix omits an eligible facility, it should file with the Commission a “Petition for Eligible Entity Status” by July 9, 2015. The petition must request that the facility be designated an eligible facility, and the caption should include the name of the licensee, station's call sign, station's community of license (city and state), facility identification number, channel number, and file number for the authorization the licensee believes should be eligible. The petitioner must explain the reason it believes the facility is eligible consistent with the Incentive Auction R&O (e.g., the facility was subject to mandatory or discretionary protection). The Bureau will process petitions in an expeditious manner and inform the petitioner of its decision well in advance of the reverse auction. All petitions must be addressed to the Commission's Secretary, Office of the Secretary, Federal Communications Commission, and to the attention of Barbara A. Kreisman, Chief, Video Division, Media Bureau, Room 2-A666. An electronic copy should also be sent to Barbara Kreisman at Barbara.Kreisman@fcc.gov and to Evan Morris at Evan.Morris@fcc.gov.

To ensure a stable and accurate database, and to facilitate the repacking process, the Incentive Auction R&O specified that the Commission would require all full power and Class A television stations to verify and certify to the accuracy of the information contained in the Commission's databases with respect to their protected facilities. The R&O also directed the Bureau to develop a form and announce by Public Notice the deadline and procedures for filing the form. Incentive Auction R&O, 29 FCC Rcd at 6651, n.615; Incentive Auction R&O, 29 FCC Rcd at 6656, para. 195, n.646. Accordingly, the Bureau announces that licensees listed in the Appendix have until July 9, 2015, to file, through the Commission's Licensing Management System (LMS), a Pre-Auction Technical Certification Form (FCC Form 2100, Schedule 381). Licensees must file a separate Form for each eligible facility listed in the Appendix. If a Pre-Auction Technical Certification Form for an eligible facility is not filed by July 9, 2015, we will consider the authorization in the Appendix and the underlying Database Technical Information for that facility as of May 29, 2015 to be accurate for purposes of determining protection in the repacking process and the spectrum usage rights eligible for relinquishment in the reverse auction.

If a licensee certifies in the Form that there is a discrepancy between the authorization and the underlying Database Technical Information on file with the Commission (e.g., the Commission has made an error and the facility authorization listed in the Appendix or underlying Database Technical Information is incorrect), the licensee must attach an exhibit to the Form providing the correct information. The Bureau will review and correct such errors as appropriate. The Bureau will take such corrections into account for purposes of determining protection in the repacking process and the spectrum usage rights eligible for relinquishment in the reverse auction.

In the alternative, if a licensee certifies in the Form that its eligible facility has been operating with parameters at variance from those specified in the authorization listed in the Appendix and the underlying Database Technical Information, the licensee must either revise its operations to reflect the licensed parameters or file an application for modification of its facility (FCC Form 2100, Schedules A or E) and seek a Special Temporary Authorization to allow it to continue to operate with parameters at variance pending grant of its modified license. If an application for modification is filed prior to submitting the Pre-Auction Technical Certification Form, the file number of that application must be provided on the Form. However, consistent with our objective of a stable and accurate database to facilitate the repacking process, we will rely on the operating parameters as specified in the authorization listed in the Appendix and the underlying Database Technical Information. Modifications occasioned by a licensee's operating at variance from those parameters, even if granted and ultimately licensed, will not be taken into account for purposes of determining protection in the repacking process and the spectrum usage rights eligible for relinquishment in the reverse auction.

In the Incentive Auction R&O, the Commission directed the Office of Engineering and Technology (OET) to release a detailed summary of baseline coverage area and population served by each television station to be protected in the repacking process. Incentive Auction R&O, 29 FCC Rcd at 6635, para. 145. The final baseline released by OET will contain the final list of eligible stations based on corrections to eligible facilities resulting from their certification in the Pre-Auction Technical Certification Form and any granted Petitions for Eligible Entity Status or Petitions for Reconsideration of the Incentive Auction R&O. Several parties have filed petitions for reconsideration of the Incentive Auction R&O requesting that discretionary protection be extended to facilities not currently protected under the R&O. The Commission is currently considering those petitions and the attached Appendix is not intended to pre-judge their outcome. If the Commission grants a petition for reconsideration and extends discretionary protection to a different facility, or a facility that is not currently listed in the Appendix, the licensee must file a Pre-Auction Technical Certification Form for each eligible facility no later than seven (7) days after release of the Commission's decision or by July 9, 2015, whichever is later.

This action is taken by the Media Bureau pursuant to authority delegated by 47 CFR 0.283 of the Commission's rules.

Barbara A. Kreisman,
Chief, Video Division, Media Bureau, Federal Communications Commission.

[FR Doc. 2015-16754 Filed 7-7-15; 8:45 am]

BILLING CODE 6712-01-P